DEPARTMENT OF COMMERCE

National Oceanic and Atmospheric Administration

[I.D. 012903F]

Mid-Atlantic Fishery Management Council; Public Meetings

AGENCY: National Marine Fisheries Service (NMFS), National Oceanic and Atmospheric Administration (NOAA), Commerce.

ACTION: Notice of public meeting.

SUMMARY: The Mid-Atlantic Fishery Management Council's (Council) Demersal Species Committee and the Atlantic States Marine Fisheries Commission's (ASMFC) Summer Flounder, Scup and Black Sea Bass Board, will hold a public meeting.

DATES: The meeting will be held on Tuesday, February 25, 2003, from 1 p.m. to 3 p.m.

ADDRESSES: The meeting will be held at the Doubletree Hotel, Crystal City, 300 Army Navy Drive, Arlington, VA; telephone: 703-416-4100 or 800-222-8733.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: The main agenda item for this meeting is to discuss 2003 planning priorities for summer flounder, scup, and black sea bass.

Although non-emergency issues not contained in this agenda may come before the Council and ASMFC for discussion, these issues can not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Joanna Davis at the Council (see ADDRESSES) least 5 days prior to the meeting date.

Dated: January 29, 2003.
Theophilus R. Brainerd,
Acting Director, Office of Sustainable Fisheries, National Marine Fisheries Service.

[FR Doc. 03-2807 Filed 2-5-03; 8:45 am]

BILLING CODE 3510-22-S